NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal review panel for Computing and Communication Foundations (#1192)—Expeditions in Computing Division—Year 2 Site Visit at Cornell University.

Date and Time: September 12, 2018; 7:00 p.m.-9:00 p.m.; September 13, 2018; 8:00 a.m.-9:00 p.m.; September 14, 2018: 8:30 a.m.-3:30 p.m.

Place: BU George Sherman Union, Metcalf Hall, 775 Commonwealth Ave., Boston, MA 02215.

Type of Meeting: Part-Open.

Contact Person: Sylvia Spengler, Expeditions in Computing Program, National Science Foundation, 2415 Eisenhower Avenue, Alexandria, Virginia 22314; Telephone 703/292-8930.

Purpose of Meeting: Site visit to assess the progress of the EIC Award: CCF-1522054, “Collaborative Research: CompSustNet: Expanding the Horizons of Computational Sustainability,” and to provide advice and recommendations concerning further NSF support for the project.

Agenda

Wednesday, September 12, 2018

7:00 p.m.-9:00 p.m.: Closed

Evening briefing to discuss the Expeditions award and forthcoming site visit.

Thursday, September 13, 2018

8:00 a.m.-12:30 p.m.: Open

Presentations by Awardee Institution, faculty staff and students, to Site Team and NSF Staff. Discussions, question and answer sessions.

1:30 p.m.-2:00 p.m.: Closed

NSF Staff and Panelists deliberation.

2:00 p.m.-5:00 p.m.: Open

Continued presentations by Awardee Institution. Response and feedback to presentations by Site Team and NSF Staff. Discussions, question and answer sessions. Draft report on education and research activities. Complete written site visit report with preliminary recommendations.

6:00 p.m.-9:00 p.m.: Closed

NSF Staff and Panelists working dinner.

Friday, September 14, 2018

8:30 a.m.-10:30 a.m.: Open

Expeditions PIs responses to issues raised by panelists.

10:30 a.m.-2:30 p.m.: Closed

Panelists prepare site visit report.

2:30 p.m.-3:30 p.m.: Open

Presentation of site visit report to Expeditions leadership team.

Reason For Closing: Topics to be discussed and evaluated during closed portions of the site review will include information of a proprietary or confidential nature, including technical information; and information on personnel. These matters are exempt under 5 U.S.C. 552b(c), (4) and (6) of the Government in the Sunshine Act.

Dated: September 6, 2018.
Crystal Robinson,
Committee Management Officer.

[FR Doc. 2018-19780 Filed 9-11-18; 8:45 am]

BILLING CODE 7555-01-P